DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 4, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Interstate Movement of Certain Land Tortoises.

OMB Control Number: 0579-0156.

Summary of Collection: The Animal Health Protection Act (AHPA) of 2002 is the primary Federal law governing the protection of animal health. The law gives the Secretary of Agriculture broad authority to prevent, control, and eliminate domestic diseases as well as to take actions to prevent and to manage exotic diseases. Disease prevention is the most effective method for maintaining a healthy animal population and enhancing the United States' ability to compete in the world market of animal and animal product trade. The AHPA is contained in Title X, Subtitle E, sections 10401 to 10418 of Public Law 107-171, May 13, 2002, the Farm Security and Rural Investment Act of 2002 [7 U.S.C. 8301 et seq.].

Title 9 CFR part 74 currently prohibits the importation and restricts the interstate movement of three tortoise species: The leopard tortoise, the African spurred tortoise, and the Bell's hingeback tortoise. APHIS implemented these restrictions in 2001 to prevent the introduction and spread of exotic ticks known to be vectors of heartwater disease, an acute, infectious disease of cattle and other ruminants.

Need and Use of the Information: APHIS will collect information to ensure that the interstate movement of these leopard, African spurred, and Bell's hingeback tortoises poses no risk of spreading exotic ticks within the United States. Owners and veterinarians are required to provide the following information to Federal or accredited veterinarians for completion of the health certificate: Name, address, and telephone number of the owner; information identifying the animal such as collar or tattoo number; breed; age; sex; color; distinctive marks; vaccination history; and certifications from both the owner and the veterinarian that all information is true and accurate. APHIS uses the information it collects to identifying each specific tortoise and documenting the State of the animal's health so that the animals can be transported across State and national boundaries. If the information is not collected APHIS would be forced to ban the interstate movement of all leopard, African spurred, and Bell's hingeback tortoises, causing economically harm to U.S. tortoise breeders.

Description of Respondents: Private and Commercial Animal Breeders, and Veterinarians.

Number of Respondents: 50.

Frequency of Responses: Reporting: On occasion.

Total Burden Hours: 375.

Ruth Brown,
Departmental Information Collection Clearance Officer.

[FR Doc. 2023-06898 Filed 4-3-23; 8:45 am]

BILLING CODE 3410-34-P